DEPARTMENT OF ENERGY

Federal Energy Regulatory Commission

[Docket Nos. RM05-17-000; RM05-25-000]

Preventing Undue Discrimination and Preference in Transmission Service; Supplemental Notice of Technical Conferences

May 25, 2007.

On April 6, 2007, as supplemented on May 4, 2007, the Commission issued notices scheduling staff technical conferences in the above-captioned proceeding. As stated in the April 6 notice, these technical conferences will review and discuss the “strawman” proposals regarding processes for transmission planning required by the Final Rule issued in this proceeding on February 16, 2007.¹ The Commission hereby provides the following additional information and instruction regarding these conferences.

¹ Preventing Undue Discrimination and Preference in Transmission Service, Order No. 890, 72 FR 12266 (March 15, 2007), FERC Stats. & Regs. ¶31,241 at P 443 (2007), reh'g pending.

The attached agenda details the dates and times of the technical conferences and identifies the companies presenting their strawman proposals, and the customer and industry groups to be represented in the stakeholder panels. To the extent a transmission provider is not listed or otherwise represented by a planning group as detailed on the attached agendas, it should contact the staff members listed below as soon as possible. In addition, each transmission provider should e-mail Commission staff with an electronic link to its strawman proposal at 890Planning.Strawman@ferc.gov as soon as such proposal is posted on the transmission provider's Web site. The Commission will provide access to links to all strawman proposals in the OATT Reform section of the Commission's Web site at http://www.ferc.gov/industries/electric/indus-act/oatt-reform/strawman-info.asp.

Representatives of the customer groups identified on the attached agenda and other interested persons should please contact the staff identified below if interested in participating as a panelist.² In the event a transmission provider or interested party is uncertain as to which technical conference is relevant, such persons should contact staff in advance to discuss the matter.

² A/V equipment will be available for panelists wishing to use PowerPoint or similar presentations.

For further information about these conferences, please contact:

W. Mason Emnett, Office of the General Counsel—Energy Markets, Federal Energy Regulatory Commission, 888 First Street, NE., Washington, DC 20426, (202) 502-6540, Mason.Emnett@ferc.gov.

Daniel Hedberg, Office of Energy Markets and Reliability, Federal Energy Regulatory Commission, 888 First Street, NE., Washington, DC 20426, (202) 502-6243, Daniel.Hedberg@ferc.gov.

Kimberly D. Bose,
Secretary.

[FR Doc. E7-10531 Filed 5-31-07; 8:45 am]

BILLING CODE 6717-01-P